DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Social Values of Ecosystem Services (SolVES) in Marine Protected Areas for Management Decision-Making.

OMB Control Number: None.

Form Number(s): NA.

Type of Request: Regular submission (request for a new information collection).

Number of Respondents: 1,415.

Average Hours per Response: 20 minutes.

Burden Hours: 472.

Needs and Uses: This request is for a new information collection.

The Coastal Zone Management Act (CZMA), 16 U.S.C. 1451 et seq., authorizes the Secretary of Commerce to (1) preserve, protect, develop, and where possible, to restore or enhance, the resource of the Nation's coastal zone for this and succeeding generations, and

(2) encourage coordination and cooperation with and among the appropriate Federal, State, and local agencies, and international organizations where appropriate, in collection, analysis, synthesis, and dissemination of coastal management information, research results, and technical assistance, to support State and Federal regulation of land use practices affecting the coastal and ocean resources of the United States. Additionally, the National Marine Sanctuary Act (NMSA), 16 U.S.C. 1431 et seq., authorizes the Secretary of Commerce to (1) maintain the natural biological communities in the national marine sanctuaries, and to protect, and, where appropriate, restore and enhance natural habitats, population and ecological processes; (2) enhance public awareness, understanding, and appreciation, and wise and sustainable use of the marine environment; and the natural, historical, cultural, and archeological resources of the National Marine Sanctuary System; and (3) to support, promote, and coordinate scientific research on, and long-term monitoring of, the resources of these marine areas.

The National Ocean Service (NOS) proposes to collect socio-economic data from residents of local counties and stakeholder groups using the Mission-Aransas NERR and the Olympic Coast NMS for recreational, cultural and other reasons. Up-to-date socio-economic data is needed to support the individual NERR and NMS site's conservation and management goals, to strengthen and improve resource management decision-making, to increase capacity, and to extend education and outreach efforts.

Affected Public: Individuals or households.

Frequency: Annually (each respondent, one time only).

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: November 22, 2013
Gwellnar Banks,
Management Analyst, Office of the Chief Information Officer.

[FR Doc. 2013-28567 Filed 11-27-13; 8:45 am]

BILLING CODE 3510-22-P